ENVIRONMENTAL PROTECTION AGENCY

[FRL-7383-8]

California State Motor Vehicle Pollution Control Standards; LEVII Amendments, 1999 ZEV Amendments, and 2001 ZEV Amendments; Correction Notice Regarding Scope of EPA's Consideration

AGENCY: Environmental Protection Agency (EPA).

ACTION: Notice of opportunity for public hearing and comment.

SUMMARY: The California Air Resources Board (CARB) has notified EPA that it has adopted amendments to its Low-Emission Vehicle (LEV) regulations including amendments to its exhaust emission standards, evaporative emission standards, its certification requirements, and to its Zero-Emission Vehicle (ZEV) program (collectively the “LEVII amendments,” with the subset pertaining to ZEVs referred to as the “1999 ZEV amendments”). On May 21, 2002 EPA announced an opportunity for public hearing and comment on the 1999 ZEV amendments and the remainder of the LEVII amendments (67 FR 35809). On June 5, 2002 EPA also announced an opportunity for public hearing and comment on CARB's 2001 ZEV amendments (67 FR 38652). On June 24, 2002 (67 FR 42556) EPA rescheduled the hearing from June 20, 2002 to July 11, 2002 and the written comment period closure date from July 22, 2002 to August 12, 2002. By today's notice EPA is announcing that it is no longer considering CARB's 1999 and 2001 ZEV amendments within the context of this waiver proceeding and EPA no longer seeks written comments on these ZEV amendments. In addition, EPA is offering an additional opportunity for written comment on limited portions of CARB's LEVII amendments, to the extent they apply to hybrid-electric vehicles (HEVs), for which CARB still seeks EPA's waiver consideration. EPA is not seeking further comment or extending the comment period on CARB's LEVII amendments except to the extent such amendments may be affected by the limited portions pertaining to HEVs.

DATES: Any party may submit written comments by October 28, 2002.

ADDRESSES: . All comments and materials relevant to today's action are contained in Public Docket No. A-2002-11 at the following address: EPA Docket Center (EPA/DC), Public Reading Room, Room B102, EPA West Building, 1301 Constitution Avenue, NW., Washington, DC. Dockets may be inspected from 8:30 a.m. to 4:30 p.m., Monday through Friday, except on government holidays. You can reach the Air Docket by telephone at (202) 566-1742 and by facsimile at (202) 566-1741. You may be charged a reasonable fee for photocopying docket materials, as provided in 40 CFR part 2.

FOR FURTHER INFORMATION CONTACT: David Dickinson, Certification and Compliance Division (6405J), U.S. Environmental Protection Agency, 1200 Pennsylvania Ave, NW., Washington, DC 20460. Telephone: (202)564-9256, Fax: (202) 565-2057, e-mail address: Dickinson.David@EPA.GOV.

SUPPLEMENTARY INFORMATION: On July 1, 2002, CARB submitted a letter to EPA withdrawing its pending requests for confirmation that its 1999 and 2001 regulatory amendments pertaining to ZEVs are within the scope of previous EPA waivers of federal preemption. EPA immediately placed CARB's July 1, 2002 letter in the Air Docket, and informed interested parties that EPA was no longer considering CARB's 1999 and 2001 ZEV amendments as part of EPA's LEVII waiver proceeding and that EPA's July 11, 2002 LEVII waiver hearing would not pertain to the 1999 and 2001 ZEV amendments. On August 1, 2002, and August 16, 2002, CARB submitted additional letters to EPA clarifying its July 1, 2002 letter and statements made by CARB at EPA's July 11, 2002 LEVII waiver hearing wherein CARB had indicated a desire to retain limited portions of the 1999 ZEV amendments within the LEVII waiver consideration. As a result of CARB's communications EPA is no longer considering the ZEV elements contained in the 1999 and 2001 ZEV amendments. Specifically, per CARB's request EPA is not considering any of CARB's 2001 ZEV amendments which are those referenced in CARB's letter to EPA dated May 21, 2002 and include amendments to CARB's ZEV program requirements and ZEV credit provisions. In addition, EPA is not considering any of the 1999 ZEV amendments which are those referenced in CARB's letter dated August 16, 2002 and include the ZEV program and credit provisions (adoption of 13 CCR section 1962), the structural changes to 13 CCR section 1960.1(g)(1), section 1960.1(g)(2), section 1960.1(h)(2), and certain changes pertaining to ZEVs in CARB's document incorporated in section 1960.1(k) entitled “California Exhaust Emission Standards and Test Procedures for 1988 and Subsequent Model Passenger Cars, Light-Duty Trucks and Medium-Duty Vehicles” (“Original LDV/MDV Standards and Test Procedures”). CARB's LEVII amendments moved all of the provisions on ZEVs that had been in the Original LDV/MDV Standards and Test Procedures into a new document entitled “California Exhaust Emission Standards and Test Procedures for 2003 and Subsequent Model Zero-Emission vehicles, and 2001 and Subsequent Model Hybrid Electric Vehicles, In the Passenger Car, Light-Duty Truck and Medium-Duty Vehicle Classes' (“the ZEV/HEV Standards and Test Procedures”) which was incorporated in 13 CCR section 1962(e). The portions of the ZEV/HEV Standards and Test Procedures that pertain to HEVs are incorporated by 13 CCR sections 1960.1(k) and 1961(d) and are used for determining whether HEVs comply with the applicable low-emission vehicle standards. EPA, per CARB's request, is not considering the adoption of the ZEV provisions found at section C and sections E.1, 4, and 5 (these sections are only ZEV related) of the ZEV/HEV Standards and Test Procedures nor is EPA considering sections A, B, D, and E. 2 and 3 to the extent that they pertain to ZEVs (to the extent they pertain to HEVs, EPA is considering them under the current waiver consideration and invites comment by today's notice since some parties may have considered the HEV provisions included in CARB's withdrawal of the ZEV amendments). Sections E.6-E.9 of the ZEV/HEV Standards and Test Procedures apply to HEVs only and EPA also invites comment on such sections. Thus by today's notice EPA intends to clarify that CARB is not seeking waiver consideration at this time of any of the 1999 ZEV amendments nor is CARB seeking waiver consideration of any of the 2001 ZEV amendments and EPA is limiting its waiver consideration accordingly.

Dated: September 19, 2002.
Jeffrey R. Holmstead,
Assistant Administrator for Air and Radiation.

[FR Doc. 02-24496 Filed 9-25-02; 8:45 am]

BILLING CODE 6560-50-P